ENVIRONMENTAL PROTECTION AGENCY

[EPA-R05-OAR-2016-0135; EPA-R05-OAR-2016-0269; EPA-R05-OAR-2016-0372; EPA-R05-OAR-2016-0396; FRL-9953-10-Region 5]

Adequacy Status of the Cleveland-Akron-Lorain and Columbus, Ohio Areas and the Ohio and Indiana Portions of the Cincinnati Indiana-Ohio-Kentucky Area Submitted 8-Hour Ozone Redesignation Requests and Maintenance Plans for Transportation Conformity Purposes

AGENCY: Environmental Protection Agency (EPA).

ACTION: Notice of adequacy.

SUMMARY: In this notice, the Environmental Protection Agency (EPA) is notifying the public that we have found that the motor vehicle emissions budgets (MVEBs) for volatile organic compounds (VOCs) and oxides of nitrogen (NOX) in the Cleveland-Akron-Lorain and Columbus, Ohio ozone nonattainment areas, and the Indiana and Ohio portions of the Cincinnati Indiana-Ohio-Kentucky ozone nonattainment area are adequate for use in transportation conformity determinations under the Clean Air Act (CAA). Ohio submitted redesignation requests and maintenance plans for the Cleveland-Akron-Lorain and Columbus areas on July 6, 2016 and June 16, 2016, respectively. Ohio submitted a redesignation request and maintenance plan for the Ohio portion of the Cincinnati area on April 21, 2016. Indiana submitted a redesignation request and maintenance plan for the Indiana portion of the Cincinnati area on February 23, 2016. As a result of our finding, these areas must use their submitted MVEBs for future transportation conformity determinations.

DATES: This finding is effective October 12, 2016.

FOR FURTHER INFORMATION CONTACT: Anthony Maietta, Life Scientist, Control Strategies Section (AR-18J), Air Programs Branch, Air and Radiation Division, United States Environmental Protection Agency, Region 5, 77 West Jackson Boulevard, Chicago, Illinois 60604, (312) 353-8777, maietta.anthony@epa.gov.

SUPPLEMENTARY INFORMATION: Throughout this document, whenever “we”, “us” or “our” is used, we mean EPA.

Background

Today's notice is an announcement of a finding that we have already made. On August 23, 2016, EPA sent letters to the Indiana Department of Environmental Management and the Ohio Environmental Protection Agency transmitting our determination that the 2020 and 2030 MVEBs contained in the redesignations and maintenance plans for the Cleveland and Columbus, Ohio areas and Indiana and Ohio portions of the Cincinnati area are adequate for transportation conformity purposes. These MVEBs were announced on EPA's transportation conformity Web site, and no comments were submitted in response. The information is available at EPA's conformity Web site: http://www.epa.gov/otaq/stateresources/transconf/adequacy.htm.

The Cleveland-Akron-Lorain ozone nonattainment area consists of Ashtabula, Cuyahoga, Geauga, Lake, Lorain, Medina, Portage, and Summit Counties. The Columbus ozone nonattainment area consists of Delaware, Fairfield, Franklin, Knox, Licking, and Madison Counties. The Indiana portion of the Cincinnati ozone nonattainment area consists of Lawrenceburg Township (located within Dearborn County, Indiana). The Ohio portion of the Cincinnati area consists of Butler, Clermont, Clinton, Hamilton, and Warren Counties. For transportation conformity purposes, the MVEBs for the Indiana and Ohio portions of the Cincinnati area are combined. The 2020 and 2030 MVEBs, in tons per day (tpd), for VOCs and NOX for the Indiana and Ohio portions of Cincinnati, and the Cleveland and Columbus, Ohio areas are as follows:

Area | 2020 NOX (tpd) | 2020 VOCs (tpd) | 2030 NOX (tpd) | 2030 VOCs (tpd)
Indiana and Ohio Portions of the Cincinnati—Indiana/Ohio/Kentucky Area | 30.79 | 30.00 | 16.22 | 18.22
Cleveland-Akron-Lorain, Ohio | 61.56 | 38.85 | 43.82 | 30.80
Columbus, Ohio | 99.54 | 50.66 | 85.13 | 44.31

Transportation conformity is required by section 176(c) of the CAA. EPA's conformity rule requires that transportation plans, programs, and projects conform to state air quality implementation plans and establishes the criteria and procedures for determining whether or not they conform. Conformity to a State Implementation Plan (SIP) means that transportation activities will not produce new air quality violations, worsen existing violations, or delay timely attainment of the national ambient air quality standards.

The criteria by which we determine whether a SIP's MVEBs are adequate for transportation conformity purposes are outlined in the regulation at 40 CFR 93.118(e)(4). As set forth above, EPA determined that these MVEBs are adequate under the applicable standards set forth in 40 CFR 93.118(e)(4). Please note that an adequacy review is separate from EPA's completeness review, and it also should not be used to prejudge EPA's ultimate approval of the SIP. Even if we find a budget adequate, the SIP could later be disapproved.

Authority: 42 U.S.C. 7401-7671q.

Dated: September 19, 2016.
Robert Kaplan,
Acting Regional Administrator, Region 5.

[FR Doc. 2016-23295 Filed 9-26-16; 8:45 am]

BILLING CODE 6560-50-P